DEPARTMENT OF HEALTH AND HUMAN SERVICES

Agency for Toxic Substances and Disease Registry

[ATSDR-159]

Availability of ATSDR's Draft Research Agenda 2002-2010

AGENCY: Agency for Toxic Substances and Disease Registry (ATSDR).

ACTION: Notice and request for public comment.

SUMMARY: The Agency for Toxic Substances and Disease Registry announces the availability for public comment the draft document, Environmental Public Health Research Agenda, Agency for Toxic Substances, 2002-2010.

DATES: Comments must be received by September 1, 2000.

ADDRESSES: The document is available by contacting Robert F. Spengler, Sc.D., Associate Administrator for Science, ATSDR, Mailstop E-28, 1600 Clifton Road, Atlanta, Georgia 30333, (404) 639-0708, or (toll free) 1-888-42-ATSDR, 1-888-422-8737, rys2@cdc.gov.

SUPPLEMENTARY INFORMATION: The Agency for Toxic Substances and Disease Registry (ATSDR) is the lead Public Health Service agency addressing human health concerns and risks in communities near hazardous waste sites or other sources of environmental contamination. ATSDR has developed a research agenda that incorporates a wide range of input from governmental partners, professional associations, universities, non-governmental organizations, affected citizens, community groups, and American Indian Tribes. Six focus areas were identified through this collaborative effort: Exposure Assessment; Chemical Mixtures; Susceptible Populations; Communities and Native American Tribes; Evaluation and Surveillance of Health Effects; and Health Promotion and Intervention.

The proposed ATSDR Research Agenda will assist in the Agency's critical mission to reduce and prevent exposures and adverse health outcomes from exposure to hazardous substances. The proposed research agenda will also support the Agency's goals of identifying people at health risk and evaluating relationships between hazardous substances and human health.

This draft Research Agenda is being made available so that the Agency can benefit from public review and input before finalizing the Agenda. This Federal Register notice announces that ATSDR's draft Research Agenda 2002-2010 is available for public comment.

Dated: July 13, 2000.
Georgi Jones,
Director, Office of Policy and External Affairs Agency for Toxic Substances and Disease Registry.

[FR Doc. 00-18079 Filed 7-17-00; 8:45 am]

BILLING CODE 4163-70-P